OFFICE OF SCIENCE AND TECHNOLOGY POLICY

Performance Review Board Membership

AGENCY: Office of Science and Technology Policy.

ACTION: Notice.

SUMMARY: The Office of Science and Technology Policy publishes the names of the members selected to serve on its SES Performance Review Board (PRB).

DATES: Membership is applicable on January 22, 2018.

FOR FUTHER INFORMATION CONTACT: Ms. Stacy L. Murphy, Operations Manager, Office of Science and Technology Policy, 1650 Pennsylvania Ave. NW, Washington, DC 20504. Telephone 202-456-6123.

SUPPLEMENTARY INFORMATION: Section 4314(c) of Title 5, U.S.C. requires each agency to establish, in accordance with regulations prescribed by the Office of Personnel Management, one or more PRBs. The purpose of this PRB is to review and make recommendations concerning proposed performance appraisals, ratings, bonuses, pay adjustments, and other appropriate personnel actions for incumbents of the SES positions. The Board shall consist of at least three members and more than half of the members shall consist of career appointees. The names and titles of the PRB members are as follows:

Martha M. Gagné, Deputy Associate Director, Management and Administration, Office of National Drug Council Policy;

Jon E. Rice, Associate Director, Office of Policy, Research, and Budget, Office of National Drug Council Policy;

Barbara A. Menard, Chief, Health, Education, Veterans and Social Programs, Office of Management and Budget;

Fred L. Ames, Assistant United States Trade Representative for Administration, United States Trade Representative.

Applicability Date: Membership is applicable on the date of this notice.

Ted Wackler,
Deputy Chief of Staff and Assistant Director.

[FR Doc. 2018-01331 Filed 1-25-18; 8:45 am]

BILLING CODE 3270-F8-P